DEPARTMENT OF HOMELAND SECURITY

Coast Guard

33 CFR 100 and 165

[Docket Number USCG-2020-0082]

RIN 1625-AA08; AA00

Special Local Regulations and Safety Zones; Recurring Marine Events and Fireworks Displays and Swim Events Held in the Coast Guard Sector Long Island Sound Zone

AGENCY: Coast Guard, DHS.

ACTION: Notice of proposed rulemaking.

SUMMARY: The Coast Guard is proposing to modify special local regulations and annual recurring marine events and safety zones regulations for firework displays and swim events in Coast Guard Sector Long Island Sound Captain of the Port Zone. When enforced, these special local regulations and safety zones will restrict vessels from transiting regulated areas during certain annually recurring events. The proposed amendments to the special local regulations and safety zones are intended to expedite public notification and ensure the protection of the maritime public and event participants from the hazards associated with certain marine events. We invite your comments on this proposed rulemaking.

DATES: Comments and related material must be received by the Coast Guard on or before May 21, 2020.

ADDRESSES: You may submit comments identified by docket number USCG-2020-0082 using the Federal eRulemaking Portal at https://www.regulations.gov. See the “Public Participation and Request for Comments” portion of the SUPPLEMENTARY INFORMATION section for further instructions on submitting comments.

FOR FURTHER INFORMATION CONTACT: If you have questions about this proposed rulemaking, call or email Marine Science Technician 2nd Class Joshua Stewart, Waterways Management Division, Sector Long Island Sound; telephone (203) 468-4469; email joshua.f.stewart@uscg.mil.

SUPPLEMENTARY INFORMATION:

I. Table of Abbreviations

CFR Code of Federal Regulations

COTP Captain of the Port

DHS Department of Homeland Security

FR Federal Register

LNM Local Notice to Mariners

NAD 83 North American Datum of 1983

NOE Notice of Enforcement

NPRM Notice of proposed rulemaking

§ Section

U.S.C. United States Code

II. Background, Purpose, and Legal Basis

Swim events, fireworks displays, and marine events are held on an annual recurring basis on the navigable waters within the Coast Guard Sector Long Island Sound COTP Zone. The Coast Guard has established special local regulations and safety zones for some of these annually recurring events on a case by case basis to ensure the protection of the maritime public and event participants from potential hazards.

The COTP Sector Long Island Sound proposes to amend 33 CFR 100.100 Special Local Regulations; Regattas and Boat Races in the Coast Guard Sector Long Island Sound Captain of the Port Zone, Table to § 100.100 and 33 CFR 165.151 Safety Zones; Fireworks Displays, Air Shows, and Swim Events in the Captain of the Port Long Island Sound Zone, Table 1 to § 165.151.

The marine events listed therein include air shows, fireworks displays, and other marine related events requiring a limited access area restricting vessel traffic for safety purposes. The proposed amendments to the tables will more accurately reflect the dates of marine events based on historical occurences.

Issuing individual regulations for each new safety zone, amendment, or removal of an existing safety zone due to minor date fluctuations creates unnecessary administrative costs and burdens. This single proposed rulemaking will considerably reduce administrative overhead and provide the public with notice through publication in the Federal Register of the upcoming recurring safety zone regulations. Event sponsors desiring to hold an event not listed in the table for the Sector Long Island Sound area of responsibility may seek permission for a regulated area for their event through a request to the phone number or email listed in the above FOR FURTHER INFORMATION CONTACT section.

The purpose of this rulemaking is to ensure the safety of vessels and the navigable waters before, during, and after a scheduled event. The Coast Guard is proposing this rulemaking under authority in 46 U.S.C. 70034 (previously 33 U.S.C. 1231).

The Coast Guard encourages the public to participate in this proposed rulemaking through the comment process so that any necessary changes can be identified and implemented in a timely and efficient manner. The Coast Guard will address all public comments accordingly, whether through response, additional revision to the regulation, or otherwise.

III. Discussion of Proposed Rule

Parts 100 and 165 of 33 CFR contain regulations establishing special local regulations and safety zones to restrict vessel traffic for the safety of persons and property. Section 100.100 establishes Special Local Regulations to ensure the safety and security of marine related events, participants, and spectators in the Sector Long Island Sound AOR. From time to time, these sections require amendment to properly advertise the recurring safety zones in the Sector Long Island Sound AOR.

The Coast Guard proposes to revise regulations in 33 CFR 100.100 Special Local Regulations; Regattas and Boat Races in the Coast Guard Sector Long Island Sound Captain of the Port Zone, Table to § 100.100 as indicated below. The amendments would involve changes to the cited dates of seven events listed in the table. The amendments are as follows:

Event name | Date
5.1 Harvard-Yale Regatta | • Date: A single day event in May or June.
| • Time: 8 a.m. until 5 p.m.
| • Location: All waters of the Thames River at New London, Connecticut between the Penn Central Draw Bridge at position 41°21′46.94″ N 072°05′14.46″ W to Bartlett Cove at position 41°25′35.9″ N 072°05′42.89″ W (NAD 83). All positions are approximate.
7.2 Dolan Family Fourth Fireworks | • Date: A single day event in July.
| • Time: To be determined annually.
| • Locations:
| (1) “No Entry Area”: All waters of Oyster Bay Harbor in Long Island Sound off Oyster Bay, NY within a 1000 foot radius of the launch platform in approximate position 40°53′42.50″ N, 073°30′04.30″ W (NAD 83).
| (2) “Slow/No Wake Area”: All waters of Oyster Bay Harbor in Long Island Sound off Oyster Bay, NY contained within the following area; beginning at a point on land in position at 40°53′12.43″ N, 073°31′13.05″ W near Moses Point; then east across Oyster Bay Harbor to a point on land in position at 40°53′15.12″ N, 073°30′38.45″ W; then north along the shoreline to a point on land in position at 40°53′34.43″ N, 073°30′33.42″ W near Cove Point; then east along the shoreline to a point on land in position at 40°53′41.67″ N, 073°29′40.74″ W near Cooper Bluff; then south along the shoreline to a point on land in position 40°53′05.09″ N, 073°29′23.32″ W near Eel Creek; then east across Cold Spring Harbor to a point on land in position 40°53′06.69″ N, 073°28′19.9″ W; then north along the shoreline to a point on land in position 40°55′24.09″ N, 073°29′49.09″ W near Whitewood Point; then west across Oyster Bay to a point on land in position 40°55′5.29″ N, 073°31′19.47″ W near Rocky Point; then south along the shoreline to a point on land in position 40°54′04.11″ N, 073°30′29.18″ W near Plum Point; then northwest along the shoreline to a point on land in position 40°54′09.06″ N, 073°30′45.71″ W; then southwest along the shoreline to a point on land in position 40°54′03.2″ N, 073°31′01.29″ W; and then south along the shoreline back to point of origin (NAD 83). All positions are approximate.
7.4 Jones Beach State Park Fireworks | • Date: A single day event in July.
| • Time: 8:30 p.m. to 10:30 p.m.
| • Locations:
| (1) “No Entry Area”: All waters off of Jones Beach State Park, Wantagh, NY within a 1000 foot radius of the launch platform in approximate position 40°34′ 56.68″ N, 073°30′31.19″ W (NAD 83).
| (2) “Slow/No Wake Area”: All navigable waters between Meadowbrook State Parkway and Wantagh State Parkway and contained within the following area. Beginning in position at 40°35′49.01″ N, 073°32′33.63″ W; then north along the Meadowbrook State Parkway to its intersection with Merrick Road in position at 40°39′14″ N, 073°34′0.76″ W; then east along Merrick Road to its intersection with Wantagh State Parkway in position at 40°39′51.32″ N, 073°30′43.36″ W; then south along the Wantagh State Parkway to its intersection with Ocean Parkway in position at 40°35′47.30″ N, 073°30′29.17″ W; then west along Ocean Parkway to its intersection with Meadowbrook State Parkway at the point of origin (NAD 83). All positions are approximate.
| (3) “No Southbound Traffic Area”: All navigable waters of Zach's Bay south of the line connecting a point near the western entrance to Zach's Bay in position at 40°36′29.20″ N, 073°29′22.88″ W and a point near the eastern entrance of Zach's Bay in position at 40°36′16.53″ N, 073°28′57.26″ W (NAD 83). All positions are approximate.
8.1 Riverfront Dragon Boat and Asian Festival | • Dates: A two day event in August.
| • Time: 8 a.m. until 4:30 p.m. each day.
| • Regulated area: All waters of the Connecticut River in Hartford, CT between the Bulkeley Bridge at 41°46′10.10″ N, 072°39′56.13″ W and the Wilbur Cross Bridge at 41°45′11.67″ N, 072°39′13.64″ W (NAD 83). All positions are approximate.
8.3 Stonewall Swim | • Date: A single day event in August.
| • Time: 8:30 a.m. until 12:30 p.m.
| • Location: All navigable waters of the Great South Bay within a three miles long and half mile wide box connecting Snedecor Avenue in Bayport, NY to Porgie Walk in Fire Island, NY. Formed by connecting the following points. Beginning at 40°43′40.24″ N, 073°03′41.50″ W; then to 40°43′40.00″ N, 073°03′13.40″ W; then to 40°40′04.13″ N, 073°03′43.81″ W; then to 40°40′08.30″ N, 073°03′17.70″ W; and then back to point of origin (NAD 83).
8.6 Smith Point Triathlon | • Date: A single day event in August.
| • Time: To be determined annually.
| • Location: All waters of Narrow Bay near Smith Point Park in Mastic Beach, NY within the area bounded by land along its southern edge and points in position at 40°44′14.28″ N, 072°51′40.68″ W; then north to a point at position 40°44′20.83″ N, 072°51′40.68″ W; then east to a point at position 40°44′20.83″ N, 072°51′19.73″ W; then south to a point at position 40°44′14.85″ N, 072°51′19.73″ W; and then southwest along the shoreline back to the point of origin (NAD 83). All positions are approximate.
10.1 Head of the Riverfront Rowing Regatta | Date: A single day event in October.
| Time: 5:30 a.m. to 5:30 p.m.
| Location: All water of the Connecticut River, Hartford, CT between at point North of Wethersfield Cove at 41°43′52.17″ N, 072°38′40.38″ W and the Riverside Boat House 41°46′30.98″ N, 072°39′54.35″ W (NAD 83).

Section 165.151, Table 1, establishes recurring safety zones to restrict vessel transit into and through specified areas to protect spectators, mariners, and other persons and property from potential hazards presented during certain events taking place in Sector Long Island Sound's AOR. From time to time, this section requires amendment to properly reflect the recurring safety zones in the AOR.

The Coast Guard proposes to revise regulations in 33 CFR 165.151 Safety Zones; Fireworks Displays, Air Shows, and Swim Events in the Captain of the Port Long Island Sound Zone, Table 1 to § 165.151 as indicated below. The revisions include updating the dates of events listed in the table and removing five events from the table. The amendments are as follows:

Event name | Date
2.1 Sag Harbor COC Winter Harbor Frost Fireworks | • Date: A single day event in February.
| • Location: Waters of Sag Harbor off Long Wharf St. Pier, Sag Harbor, NY in approximate position 41°00′16.82″ N, 072°17′43.78″ W (NAD 83).
5.2 Greenport Spring Fireworks | • Date: A single day event in the month of May or June
| • Location: Waters of Greenport Harbor off Mitchell Park and Marina, Greenport, NY in approximate position 41°05′59.09″ N, 072°21′31.44″ W (NAD 83).
6.1 Barnum Festival Fireworks | • Date: A single day event in June or July.
| • Time: 8:30 p.m. to 10:30 p.m.
| • Location: Waters of Bridgeport Harbor, Bridgeport, CT in approximate position 41°9′04″ N, 073°12′49″ W (NAD 83).
6.4 Salute to Veterans Fireworks | • Date: A single day event in June.
| • Location: Waters of Reynolds Channel off Hempstead, NY in approximate position 40°35′36.62″ N, 073°35′20.72″ W (NAD 83).
6.5 Cherry Grove Arts Project Fireworks | • Date: A single day event in June.
| • Location: Waters of the Great South Bay off Cherry Grove, NY in approximate position 40°39′49.06″ N, 073°05′27.99″ W (NAD 83).
7.9 City of Middletown Fireworks | • Date: A single day event in June or July.
| • Time: 8:30 p.m. to 10:30 p.m.
| • Location: Waters of the Connecticut River, Middletown Harbor, Middletown, CT in approximate position 41°33′44.47″ N, 072°38′37.88″ W (NAD 83).
7.10 City of New Haven Fireworks | • Date: A single day event in July.
| • Time: 8:30 p.m. to 10:30 p.m.
| • Location: Waters of New Haven Harbor, off Long Warf Park, New Haven, CT in approximate position 41°17′24″ N, 072°54′55.8″ W (NAD 83).
7.11 City of Norwich Fireworks | • Date: A single day event in July.
| • Time: 8:30 p.m. to 10:30 p.m.
| • Location: Waters of the Thames River, Norwich, CT in approximate position, 41°31′16.835″ N, 072°04′43.327″ W (NAD 83).
7.12 City of Stamford Fireworks | • Date: A single day event in July.
| • Time: 8:30 p.m. to 10:30 p.m.
| • Location: Waters of Fisher's Westcott Cove, Stamford, CT in approximate position 41°02′09.56″ N, 073°30′57.76″ W (NAD 83).
7.13 City of West Haven Fireworks | • Date: A single day event in June or July.
| • Time: 8:30 p.m. to 10:30 p.m.
| • Location: Waters of New Haven Harbor, off Bradley Point, West Haven, CT in approximate position 41°15′07″ N, 072°57′26″ W (NAD 83).
7.15 Davis Park Fireworks | • Date: A single day event in July.
| • Time: 8:30 p.m. to 10:30 p.m.
| • Location: Waters of the Great South Bay, Davis Park, NY in approximate position, 40°41′17″ N, 073°00′20″ W (NAD 83).
7.16 Fairfield Aerial Fireworks | • Date: A single day event in July.
| • Time: 8:30 p.m. to 10:30 p.m.
| • Location: Waters of Jennings Beach, Fairfield, CT in approximate position 41°08′22″ N, 073°14′02″ W (NAD 83).
7.17 Fund in the Sun | • Date: A single day event in July.
| • Time: 8:30 p.m. to 10:30 p.m.
| • Location: Waters of the Great South Bay off The Pines, East Fire Island, NY in approximate position 40°40′07.43″ N, 073°04′13.88″ W (NAD 83).
7.18 Independence Day Celebration Fireworks | • Date: A single day event in July.
| • Time: 8:30 p.m. to 10:30 p.m.
| • Location: Waters off Umbrella Beach, Montauk, NY in approximate position 41°01′44″ N, 071°57′13″ W (NAD 83).
7.19 Jones Beach State Park Fireworks | • Date: A single day event in July.
| • Time: 8:30 p.m. to 10:30 p.m.
| • Location: Waters off Jones Beach State Park, Wantagh, NY in approximate position 40°34′56.676″ N, 073°30′31.186″ W (NAD 83).
7.20 Madison Cultural Arts Fireworks | • Date: A single day event in July.
| • Time: 8:30 p.m. to 10:30 p.m.
| • Location: Waters of Long Island Sound off Madison, CT in approximate position 41°16′10″ N, 072°36′30″ W (NAD 83).
7.21 Mason's Island Yacht Club Fireworks | • Date: A single day event in July.
| • Time: 8:30 p.m. to 10:30 p.m.
| • Location: Waters of Fisher's Island Sound, Noank, CT in approximate position 41°19′30.61″ N, 071°57′48.22″ W (NAD 83).
7.22 Patchogue Chamber of Commerce Fireworks | • Date: A single day event in July.
| • Time: 8:30 p.m. to 10:30 p.m.
| • Location: Waters of the Great South Bay, Patchogue, NY in approximate position, 40°44′38″ N, 073°00′33″ W (NAD 83).
7.23 Riverfest Fireworks | • Date: A single day event in July.
| • Time: 8:30 p.m. to 10:30 p.m.
| • Location: Waters of the Connecticut River, Hartford, CT in approximate position, 41°45′39.93″ N, 072°39′49.14″ W (NAD 83).
7.24 Village of Asharoken Fireworks | • Date: A single day event in July.
| • Time: 8:30 p.m. to 10:30 p.m.
| • Location: Waters of Northport Bay, Asharoken, NY in approximate position, 41°55′54.04″ N, 073°21′27.97″ W (NAD 83).
7.25 Village of Port Jefferson Fourth of July Celebration Fireworks | • Date: A single day event in July.
| • Time: 8:30 p.m. to 10:30 p.m.
| • Location: Waters of Port Jefferson Harbor, Port Jefferson, NY in approximate position 40°57′10.11″ N, 073°04′28.01″ W (NAD 83).
7.26 Village of Quoque Foundering Anniversary Fireworks | • Date: A single day event in July.
| • Time: 8:30 p.m. to 10:30 p.m.
| • Location: Waters of Quantuck Bay, Quoque, NY in approximate position 40°48′42.99″ N, 072°37′20.20″ W (NAD 83).
7.34 Devon Yacht Club Fireworks | • Date: A single day event in July.
| • Location: Waters of Napeague Bay, in Block Island Sound off Amagansett, NY in approximate position 40°59′41.40″ N, 072°06′08.70″ W (NAD 83).
7.35 Dolan Family Fourth Fireworks | • Date: A single day event in July.
| • Location: Waters of Oyster Bay Harbor in Long Island Sound off Oyster Bay, NY in approximate position 40°53′42.50″ N, 073°30′04.30″ W (NAD 83).
7.38 Madison Fireworks | • Date: A single day event in July.
| • Location: Waters of Long Island Sound off Madison Beach, Madison, CT in approximate position 41°16′03.93″ N, 072°36′15.97″ W (NAD 83).
7.39 Stratford Fireworks | • Date: A single day event in June or July.
| • Location: Waters of Long Island Sound surrounding Short Beach Park, Stratford, CT in approximate position 41°09′50.82″ N, 073°06′47.13″ W (NAD 83).
7.40 Rowayton Fireworks | • Date: A single day event in July.
| • Location: Waters of Long Island Sound south of Bayley Beach Park, Rowayton, CT in approximate position 41°03′11″ N, 073°26′41″ W (NAD 83).
7.42 Connetquot River Summer Fireworks | • Date: A single day event in July.
| • Location: Waters of the Connetquot River off Snapper Inn Restaurant, Oakdale, NY in approximate position 40°43′32.38″ N, 073°09′02.64″ W (NAD 83).
7.43 North Bay Fourth of July Fireworks | • Date: A single day event in July.
| • Location: Waters of the Great South Bay in Patchogue Bay 4,000 feet southeast of Blue Point, NY in approximate position 40°44′6.28″ N, 073°01′02.50″ W (NAD 83).
7.44 Sebonak Golf Club Fireworks | • Date: A single day event in July or August.
| • Location: Waters of the Great Peconic Bay ¾ of a mile northwest of Bullhead Bay, Shinnecock, NY in approximate position 40°55′11.79″ N, 072°28′04.34″ W (NAD 83).
7.45 Xirinachs Family Foundation Fireworks | • Date: A single day event in July.
| • Location: Waters of Hunting Bay off Beach Avenue, Huntington Bay, NY in approximate position 40°54′23.27″ N, 73°25′08.04″ W (NAD 83).
7.46 Irwin Family 4th of July | • Date: A single day event in June or July.
| • Location: Waters of the Great South Bay off The Helm Road, East Islip, NY in approximate position 40°42′12.28″ N, 73°12′00.08″ W (NAD 83).
7.47 Westbrook July Celebration | • Date: A single day event in July or August.
| • Location: Waters of Long Island Sound Westbrook Harbor, West Brook, CT in approximate position 41°16′10″ N, 72°26′14″ W (NAD 83).
8.5 Shelter Island Yacht Club Fireworks | • Date: A single day event in August.
| • Location: Waters of Dering Harbor north of Shelter Island Yacht Club, Shelter Island, NY in approximate position 41°05′23.47″ N, 072°21′11.18″ W (NAD 83).
8.6 Stamford Fireworks | • Date: A single day event in August.
| • Location: Waters of Stamford Harbor, off Kosciuszco Park, Stamford, CT in approximate position 41°01′48.46″ N, 073°32′15.32″ W (NAD 83).
8.7 Nikon Theater at Jones Beach Fireworks | • Date: A single day event in August.
| • Location: Waters of Zacks Bay off the Nikon Theater, Jones Beach, NY in approximate position 40°36′02.12″ N, 073°30′05.65″ W (NAD 83).
8.8 Ascension Fireworks | • Date: A single day event in August.
| • Location: Waters of the Great South Bay off The Pines, East Fire Island, NY in approximate position 40°40′07.43″ N, 073°04′13.88″ W (NAD 83).
9.4 The Creek Fireworks (The Creek Club) | • Date: A single day event in September.
| • Location: Waters of Long Island Sound off the Creek Golf Course, Lattingtown, NY in approximate position 40°54′13″ N, 073°35′58″ W (NAD 83).
9.5 Archangel Michaek Greek Orthodox Church Fireworks | • Date: A single day event in September or October.
| • Location: Waters of Hempstead Harbor off Bar Beach Town Park, Port Washington, NY in approximate position 40°49′42″ N, 073°39′07″ W (NAD 83).

The following events will be removed from the table:

Event name | Date
4.1 Bridgeport Bluefish April Fireworks | Location: Waters of the Pequannock River's Lower Reach surrounding Steel Point, Bridgeport, CT in approximate position 41°10′35″ N, 073°10′58″ W (NAD 83).
6.6 Bridgeport Bluefish June Fireworks | Location: Waters of the Pequannock River's Lower Reach surrounding Steel Point, Bridgeport, CT in approximate position 41°10′35″ N, 073°10′58″ W (NAD 83).
7.48 Bridgeport Bluefish July Fireworks | Location: Waters of the Pequannock River's Lower Reach surrounding Steel Point, Bridgeport, CT in approximate position 41°10′35″ N, 073°10′58″ W (NAD 83).
8.9 Bridgeport Bluefish August Fireworks | Location: Waters of the Pequannock River's Lower Reach surrounding Steel Point, Bridgeport, CT in approximate position 41°10′35″ N, 073°10′58″ W (NAD 83).
9.7 Bridgeport Bluefish September Fireworks | Location: Waters of the Pequannock River's Lower Reach surrounding Steel Point, Bridgeport, CT in approximate position 41°10′35″ N, 073°10′58″ W (NAD 83).

The effect of this proposed rule would be to restrict general navigation in the safety zones during these events. Vessels intending to transit the designated waterway through the safety zones will only be allowed to transit the area when COTP or a designated representative has deemed it safe to do so or at the completion of the events. The proposed annually recurring safety zones are necessary to provide for the safety of life on navigable waters of the U.S. during the events.

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance it is exempt from the requirements of Executive Order 13771.

This regulatory action determination is based on the size, location, and duration of the safety zones. These safety zones are limited in size and duration, and are usually positioned away from high vessel traffic areas. Moreover, the Coast Guard would issue a Broadcast Notice to Mariners via VHF-FM marine channel 16 about the zones and the rule would allow vessels to seek permission to enter the zones. Vessel traffic would also be able to request permission from the COTP or a designated representative to enter the restricted area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit these safety zones may be small entities, for the reasons stated in section IV.A above this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f) and have made a preliminary determination that this action is one of a category of actions that do not individually or cumulatively have a significant effect on the human environment. This proposed rule involves amending the dates of events that are already listed in 33 CFR 100.100 and 33 CFR 165.151 and removing listed events from 33 CFR 165.151. Normally such actions are categorically excluded from further review under paragraph L60b and L61 of Appendix A, Table 1 of DHS Instruction Manual 023-01-001-01, Rev. 1. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, call or email the person in the FOR FURTHER INFORMATION CONTACT section of this document for alternate instructions.

We accept anonymous comments. All comments received will be posted without change to https://www.regulations.gov and will include any personal information you have provided. For more about privacy and submissions in response to this document, see DHS's Correspondence System of Records notice (84 FR 48645, September 26, 2018).

Documents mentioned in this NPRM as being available in the docket, and all public comments, will be in our online docket at https://www.regulations.gov and can be viewed by following that website's instructions. Additionally, if you go to the online docket and sign up for email alerts, you will be notified when comments are posted or a final rule is published.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard is proposing to amend 33 CFR parts 100 and 165 as follows:

PART 100—SAFETY OF LIFE ON NAVIGABLE WATERS

1. The authority citation for part 100 continues to read as follows:

Authority: 46 U.S.C. 70041; 33 CFR 1.05-1.

§ 100.100 [Amended]

2. Amend § 100.100 by revising Table to § 100.100 to read as follows:

* * * * *

Table to § 100.100
5 | May
5.1 Harvard-Yale Regatta, Thames River, New London, CT | • Date: A single day event in May or June.
| • Time: 8 a.m. until 5 p.m.
| • Location: All waters of the Thames River at New London, Connecticut between the Penn Central Draw Bridge at position 41°21′46.94″ N 072°05′14.46″ W to Bartlett Cove at position 41°25′35.9″ N 072°05′42.89″ W (NAD 83). All positions are approximate.
5.2 Jones Beach Air Show | • Date: The Thursday through Sunday before Memorial Day each May.
| • Time:
| (1) The “No Entry Area” will be enforced each day from the start of the air show until 30 minutes after it concludes. Exact time will be determined annually.
| (2) The “Slow/No Wake Area” and the “No Southbound Traffic Area” will be enforced each day for six hours after the air show concludes. Exact time will be determined annually.
| • Location:
| (1) “No Entry Area”: Waters of the Atlantic Ocean off Jones Beach State Park, Wantagh, NY contained within the following described area; beginning at a point on land at position 40°34′54″ N, 073°33′21″ W; then east along the shoreline of Jones Beach State Park to a point on land at position 40°35′53″ N, 073°28′48″ W; then south to a point in the Atlantic Ocean off of Jones Beach at position 40°35′05″ N, 073°28′34″ W; then west to position 40°33′15″ N, 073°33′09″ W; then north to the point of origin (NAD 83). All positions are approximate.
| (2) “Slow/No Wake Area”: All navigable waters between Meadowbrook State Parkway and Wantagh State Parkway and contained within the following area. Beginning in position 40°35′49.01″ N, 73°32′33.63″ W; then north along the Meadowbrook State Parkway to its intersection with Merrick Road in position 40°39′14″ N, 73°34′0.76″ W; then east along Merrick Road to its intersection with Wantagh State Parkway in position 40°39′51.32″ N, 73°30′43.36″ W; then south along the Wantagh State Parkway to its intersection with Ocean Parkway in position 40°35′47.30″ N, 073°30′29.17″ W; then west along Ocean Parkway to its intersection with Meadowbrook State Parkway at the point of origin (NAD 83). All positions are approximate.
| (3) “No Southbound Traffic Area”: All navigable waters of Zach's Bay south of the line connecting a point near the western entrance to Zach's Bay at position 40°36′29.20″ N, 073°29′22.88″ W and a point near the eastern entrance of Zach's Bay at position 40°36′16.53″ N, 073°28′57.26″ W (NAD 83). All positions are approximate.
6 | June
6.1 Swim Across America Greenwich | • Date: A single day event during June.
| • Time: 5:30 a.m. until noon.
| • Location: All navigable waters of Stamford Harbor within an area starting at a point in position 41°01′32.03″ N, 073°33′8.93″ W, then southeast to a point in position 41°01′15.01″ N, 073°32′55.58″ W; then southwest to a point in position 41°0′49.25″ N, 073°33′20.36″ W; then northwest to a point in position 41°0′58″ N, 073°33′27″ W; then northeast to a point in position 41°1′15.8″ N, 073°33′9.85″ W, then heading north and ending at point of origin (NAD 83). All positions are approximate.
7 | July
7.1 Connecticut River Raft Race, Middletown, CT | • Date: A single day between the last Saturday in July through first Saturday of August.
| • Time: 10 a.m. until 2 p.m.
| • Location: All waters of the Connecticut River near Middletown, CT between Gildersleeve Island (Marker no. 99) at position 41°36′02.13″ N, 072°37′22.71″ W; and Portland Riverside Marina (Marker no. 88) at position 41°33′38.3″ N, 072°37′36.53″ W (NAD 83). All positions are approximate.
| • Additional Stipulations: Spectators or other vessels shall not anchor, block, loiter, or impede the transit of event participants or official patrol vessels in the regulated areas unless authorized by COTP or designated representative.
7.2 Dolan Family Fourth Fireworks | • Date: A single day event in July.
| • Time: To be determined annually.
| • Locations:
| (1) “No Entry Area”: All waters of Oyster Bay Harbor in Long Island Sound off Oyster Bay, NY within a 1000 foot radius of the launch platform in approximate position 40°53′42.50″ N, 073°30′04.30″ W (NAD 83).
| (2) “Slow/No Wake Area”: All waters of Oyster Bay Harbor in Long Island Sound off Oyster Bay, NY contained within the following area; beginning at a point on land in position at 40°53′12.43″ N, 073°31′13.05″ W near Moses Point; then east across Oyster Bay Harbor to a point on land in position at 40°53′15.12″ N, 073°30′38.45″ W; then north along the shoreline to a point on land in position at 40°53′34.43″ N, 073°30′33.42″ W near Cove Point; then east along the shoreline to a point on land in position at 40°53′41.67″ N, 073°29′40.74″ W near Cooper Bluff; then south along the shoreline to a point on land in position 40°53′05.09″ N, 073°29′23.32″ W near Eel Creek; then east across Cold Spring Harbor to a point on land in position 40°53′06.69″ N, 073°28′19.9″ W; then north along the shoreline to a point on land in position 40°55′24.09″ N, 073°29′49.09″ W near Whitewood Point; then west across Oyster Bay to a point on land in position 40°55′5.29″ N, 073°31′19.47″ W near Rocky Point; then south along the shoreline to a point on land in position 40°54′04.11″ N, 073°30′29.18″ W near Plum Point; then northwest along the shoreline to a point on land in position 40°54′09.06″ N, 073°30′45.71″ W; then southwest along the shoreline to a point on land in position 40°54′03.2″ N, 073°31′01.29″ W; and then south along the shoreline back to point of origin (NAD 83). All positions are approximate.
7.3 Clam Shell Foundation Fireworks | • Date: A single day during July.
| • Time: To be determined annually.
| • Locations:
| (1) “No Entry Area”: All waters of Three Mile Harbor, East Hampton, NY within a 1000 foot radius of the launch platform in approximate position 41°01′15.49″ N, 072°11′27.5″ W (NAD 83).
| (2) “Northbound Traffic Only Area”: All waters of Three Mile Harbor, East Hampton, NY contained within the following area; beginning at a point in position at 41°02′5.05″ N, 072°11′19.52″ W; then southeast to a point on land in position at 41°02′2.67″ N, 072°11′17.97″ W; then south along shoreline to a point on land in position at 41°01′35.26″ N, 072°11′9.56″ W; then southeast across channel to a point on land in position at 41°01′30.28″ N, 072°10″52.77″ W; then north along the shoreline to a point on land in position at 41°01′41.35″ N, 072° 10′52.57″ W; then north across channel to a point on land in position at 41°01′44.41″ N, 072° 10′52.23″ W near the southern end of Sedge Island; then north along shoreline of Sedge Island to a point on land in position at 41°01′56.3″ N, 072°10′59.37″ W, near the northern end of Sedge Island; then northwest across the channel to a point on land in position 41°01′56.76″ N, 072°11′0.66″ W; then northwest along shoreline to a point on land in position 41°01′41.35″ N, 072°10′52.57″ W; then northwest to position at 41°02′5.92″ N, 072°11′16.73″ W; and then southwest to point of origin (NAD 83). All positions are approximate.
7.4 Jones Beach State Park Fireworks | • Date: A single day event in July.
| • Time: 8:30 p.m. to 10:30 p.m.
| • Locations:
| (1) “No Entry Area”: All waters off of Jones Beach State Park, Wantagh, NY within a 1000 foot radius of the launch platform in approximate position 40°34′56.68″ N, 073°30′31.19″ W (NAD 83).
| (2) “Slow/No Wake Area”: All navigable waters between Meadowbrook State Parkway and Wantagh State Parkway and contained within the following area. Beginning in position at 40°35′49.01″ N, 073°32′33.63″ W; then north along the Meadowbrook State Parkway to its intersection with Merrick Road in position at 40°39′14″ N, 073°34′0.76″ W; then east along Merrick Road to its intersection with Wantagh State Parkway in position at 40°39′51.32″ N, 073°30′43.36″ W; then south along the Wantagh State Parkway to its intersection with Ocean Parkway in position at 40°35′47.30″ N, 073°30′29.17″ W; then west along Ocean Parkway to its intersection with Meadowbrook State Parkway at the point of origin (NAD 83). All positions are approximate.
| (3) “No Southbound Traffic Area”: All navigable waters of Zach's Bay south of the line connecting a point near the western entrance to Zach's Bay in position at 40°36′29.20″ N, 073°29′22.88″ W and a point near the eastern entrance of Zach's Bay in position at 40°36′16.53″ N, 073°28′57.26″ W (NAD 83). All positions are approximate.
7.5 Maggie Fischer Memorial Great South Bay Cross Bay Swim | • Date: A single day during July.
| • Time: To be determined annually.
| • Location: Waters of the Great South Bay, NY within 100 yards of the race course. Starting Point at the Fire Island Lighthouse Dock in position at 40°38′01″ N, 073°13′07″ W; then north-by-northwest to a point in position at 40°38′52″ N, 073°13′09″ W; then north-by-northwest to a point in position at 40°39′40″ N, 073°13′30″ W; then north-by-northwest to a point in position at 40°40′30″ N, 073°14′00″ W; and then north-by-northwest, finishing at Gilbert Park, Brightwaters, NY at position 40°42′25″ N, 073°14′52″ W (NAD 83). All positions are approximate.
7.6 Aquapalooza, Zach's Bay | • Date: A single day during July.
| • Time: 11:30 a.m. to 8 p.m.
| • Location: All navigable waters of Zach's Bay, Wantagh, NY south of the line connecting a point near the western entrance to Zach's Bay in approximate position 40°36′29.20″ N, 073°29′22.88″ W and a point near the eastern entrance of Zach's Bay in approximate position 40°36′16.53″ N, 073°28′57.26″ W.
| • Additional stipulations: During the enforcement period vessel speed in the regulated area is restricted to no wake speed or 6 knots, whichever is slower. On the day of the event from 3 p.m. to 5:30 p.m. vessels may only transit the regulated area in the northbound direction or outbound direction.
7.7 Fran Schnarr Open Water Championship Swim | • Date: A single day during July.
| • Time: To be determined annually.
| • Location: Waters of Huntington Bay, NY within 100 yards of the race course. Starting in position at 40°54′25.3″ N, 073°24′27.9″ W; then northeast to a position at 40°54′32″ N, 73°23′57.7″ W; then northwest to a position at 40°54′37.9″ N, 073°23′57.2″ W; then southwest to a position at 40°54′33.2″ N, 073°25′28.1″ W; then southeast to a position at 40°54′25.5″ N, 073°25′25.7″ W; and then southeast to point of origin (NAD 83). All positions are approximate.
8 | August
8.1 Riverfront Dragon Boat and Asian Festival | • Dates: A two day event in August.
| • Time: 8 a.m. until 4:30 p.m. each day.
| • Regulated area: All waters of the Connecticut River in Hartford, CT between the Bulkeley Bridge at 41°46′10.10″ N, 072°39′56.13″ W and the Wilbur Cross Bridge at 41°45′11.67″ N, 072°39′13.64″ W (NAD 83). All positions are approximate.
8.2 Swim Across the Sound | • Date: A single day during August.
| • Time: To be determined annually.
| • Location: Waters of Long Island Sound from Port Jefferson, NY in approximate position 40°58′11.71″ N, 073°05′51.12″ W; then northwest to Captain's Cove Seaport, Bridgeport, CT in approximate position 41°09′25.07″ N, 073°12′47.82″ W (NAD 83).
8.3 Stonewall Swim | • Date: A single day event in August.
| • Time: 8:30 a.m. until 12:30 p.m.
| • Location: All navigable waters of the Great South Bay within a three miles long and half mile wide box connecting Snedecor Avenue in Bayport, NY to Porgie Walk in Fire Island, NY. Formed by connecting the following points. Beginning at 40°43′40.24″ N, 073°03′41.50″ W; then to 40°43′40.00″ N, 073°03′13.40″ W; then to 40°40′04.13″ N, 073°03′43.81″ W; then to 40°40′08.30″ N, 073°03′17.70″ W; and then back to point of origin (NAD 83).
8.4 Island Beach Two Mile Swim | • Date: A single day during August.
| • Time: To be determined annually.
| • Location: All waters of Captain Harbor between Little Captain's Island and Bower's Island that are located within the box formed by connecting four points in the following positions. Beginning at 40°59′23.35″ N 073°36′42.05″ W; then northwest to 40°59′51.04″ N 073°37′57.32″ W; then southwest to 40°59′45.17″ N 073°38′01.18″ W; then southeast to 40°59′17.38″ N 073°36′45.9″ W; then northeast to the point of origin (NAD 83). All positions are approximate.
8.5 Waves of Hope Swim | • Date: A single day during August.
| • Time: To be determined annually.
| • Location: All waters of the Great South Bay off Amityville, NY shoreward of a line created by connecting the following points. Beginning at a point at 40°39′22.38″ N, 073°25′31.63″ W; then south to a point at 40°39′2.18″ N, 073°25′31.63″ W; then east to a point at 40°39′2.18″ N, 073°24′3.81″ W; then north to a point at 40°39′18.27″ N, 073°24′3.81″ W; and then west back to point of origin (NAD 83). All positions are approximate.
8.6 Smith Point Triathlon | • Date: A single day event in August.
| • Time: To be determined annually.
| • Location: All waters of Narrow Bay near Smith Point Park in Mastic Beach, NY within the area bounded by land along its southern edge and points in position at 40°44′14.28″ N, 072°51′40.68″ W; then north to a point at position 40°44′20.83″ N, 072°51′40.68″ W; then east to a point at position 40°44′20.83″ N, 072°51′19.73″ W; then south to a point at position 40°44′14.85″ N, 072°51′19.73″ W; and then southwest along the shoreline back to the point of origin (NAD 83). All positions are approximate.
9 | September
9.1 Head of the Tomahawk | • Date: A single day during September.
| • Time: To be determined annually.
| • Location: All navigable waters of the Connecticut River off South Glastonbury, CT. Beginning at position 41°41′18.88″ N; 072°37′16.26″ W; then downriver along the west bank to a point at position 41°38′49.12″ N, 072°37′32.73″ W; then across the Connecticut River to a point at position 41°38′49.5″ N, 072°37′19.55″ W; then upriver along the east bank to a point at position 41°41′25.82″ N, 072°37′9.08″ W; then across the Connecticut River to the point of origin (NAD 83).
| • Additional Stipulations: Non-event vessels transiting through the area during the enforcement period are to travel at no wake speeds or 6 knots, whichever is slower and that non-event vessels shall not block or impede the transit of event participants, event safety vessels or official patrol vessels in the regulated area unless authorized by COTP or designated representatives.
10 | October
10.1 Head of the Riverfront Rowing Regatta, Hartford, CT | • Date: A single day event in October.
| • Time: 5:30 a.m. until 5:30 p.m.
| • Location: All water of the Connecticut River, Hartford, CT, between at point North of Wethersfield Cove at 41°43′52.17″ N, 072°38′40.38″ W and the Riverside Boat House 41°46′30.98″ N, 072° 39′54.35″ W (NAD 83).

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 0170.1.

§ 165.151 [Amended]

2. Amend § 165.151 by revising Table 1 to § 165.151 to read as follows:

* * * * *

Table 1 to § 165.151
2 | February
2.1 Sag Harbor COC Winter Harbor Frost Fireworks | Date: A single day event in February.
| Location: Waters of Sag Harbor off Long Wharf St. Pier, Sag Harbor, NY in approximate position 41°00′16.82″ N, 072°17′43.78″ W (NAD 83).
4 | April
4.1 Bridgeport Bluefish April Fireworks | • Location: Waters of the Pequannock River's Lower Reach surrounding Steel Point, Bridgeport, CT in approximate position 41°10′35″ N, 073°10′58″ W (NAD 83).
5 | May
5.1 Jones Beach Air Show | • Date: The Thursday through Sunday before Memorial Day each May from 9:30 a.m. until 3:30 p.m. each day.
| • Location: Waters of the Atlantic Ocean off Jones Beach State Park, Wantagh, NY contained within the following described area; beginning in approximate position 40°34′54″ N, 073°33′21″ W, then running east along the shoreline of Jones Beach State Park to approximate position 40°35′53″ N, 073°28′47″ W; then running south to a position in the Atlantic Ocean off of Jones Beach at approximate position 40°35′05″ N, 073°28′34″ W; then running West to approximate position 40°33′15″ N, 073°33′09″ W; then running North to the point of origin.
5.2 Greenport Spring Fireworks | • Date: A single day event in the month of May or June.
| • Location: Waters of Greenport Harbor off Mitchell Park and Marina, Greenport, NY in approximate position 41°05′59.09″ N, 072°21′31.44″ W (NAD 83).
6 | June
6.1 Barnum Festival Fireworks | • Date: A single day event in June or July.
| • Time: 8:30 p.m. to 10:30 p.m.
| • Location: Waters of Bridgeport Harbor, Bridgeport, CT in approximate position 41°9′04″ N, 073°12′49″ W (NAD 83).
6.2 Town of Branford Fireworks | • Location: Waters of Branford Harbor, Branford, CT in approximate position, 41°15′30″ N, 072°49′22″ W (NAD 83).
6.3 Vietnam Veterans/Town of East Haven Fireworks | • Location: Waters off Cosey Beach, East Haven, CT in approximate position, 41°14′19″ N, 072°52′9.8″ W (NAD 83).
6.4 Salute to Veterans Fireworks | • Date: A single day event in June.
| • Location: Waters of Reynolds Channel off Hempstead, NY in approximate position 40°35′36.62″ N, 073°35′20.72″ W (NAD 83).
6.5 Cherry Grove Arts Project Fireworks | • Date: A single day event in June.
| • Location: Waters of the Great South Bay off Cherry Grove, NY in approximate position 40°39′49.06″ N, 073°05′27.99″ W (NAD 83).
7 | July
7.1 Point O'Woods Fire Company Summer Fireworks | • Location: Waters of the Great South Bay, Point O'Woods, NY in approximate position 40°39′18.57″ N, 073°08′5.73″ W (NAD 83).
7.2 Cancer Center for Kids Fireworks | • Location: Waters off of Bayville, NY in approximate position 40°54′38.20″ N, 073°34′56.88″ W (NAD 83).
7.3 City of Westbrook, CT July Celebration Fireworks | • Location: Waters of Westbrook Harbor, Westbrook, CT in approximate position, 41°16′10.50″ N, 072°26′14″ W (NAD 83).
7.4 Norwalk Fireworks | • Location: Waters off Calf Pasture Beach, Norwalk, CT in approximate position, 41°04′50″ N, 073°23′22″ W (NAD 83).
7.5 Lawrence Beach Club Fireworks | • Location: Waters of the Atlantic Ocean off Lawrence Beach Club, Atlantic Beach, NY in approximate position 40°34′42.65″ N, 073°42′56.02″ W (NAD 83).
7.6 Sag Harbor Fireworks | • Location: Waters of Sag Harbor Bay off Havens Beach, Sag Harbor, NY in approximate position 41°00′26″ N, 072°17′9″ W (NAD 83).
7.7 South Hampton Fresh Air Home Fireworks | • Location: Waters of Shinnecock Bay, Southampton, NY in approximate position, 40°51′48″ N, 072°26′30″ W (NAD 83).
7.8 Westport Police Athletic League Fireworks | • Location: Waters off Compo Beach, Westport, CT in approximate position, 41°06′15″ N, 073°20′57″ W (NAD 83).
7.9 City of Middletown Fireworks | • Date: A single day event in June or July.
| • Time: 8:30 p.m. to 10:30 p.m.
| • Location: Waters of the Connecticut River, Middletown Harbor, Middletown, CT in approximate position 41°33′44.47″ N, 072°38′37.88″ W (NAD 83).
7.10 City of New Haven Fireworks | • Date: A single day event in July.
| • Time: 8:30 p.m. to 10:30 p.m.
| • Location: Waters of New Haven Harbor, off Long Warf Park, New Haven, CT in approximate position 41°17′24″ N, 072°54′55.8″ W (NAD 83).
7.11 City of Norwich July Fireworks | • Date: A single day event in July.
| • Time: 8:30 p.m. to 10:30 p.m.
| • Location: Waters of the Thames River, Norwich, CT in approximate position, 41°31′16.835″ N, 072°04′43.327″ W (NAD 83).
7.12 City of Stamford Fireworks | • Date: A single day event in July.
| • Time: 8:30 p.m. to 10:30 p.m.
| • Location: Waters of Fisher's Westcott Cove, Stamford, CT in approximate position 41°02′09.56″ N, 073°30′57.76″ W (NAD 83).
7.13 City of West Haven Fireworks | • Date: A single day event in June or July.
| • Time: 8:30 p.m. to 10:30 p.m.
| • Location: Waters of New Haven Harbor, off Bradley Point, West Haven, CT in approximate position 41°15′07″ N, 072°57′26″ W (NAD 83).
7.14 CDM Chamber of Commerce Annual Music Fest Fireworks | • Date: July 4.
| • Rain date: July 5.
| • Time: 8:30 p.m. to 10:30 p.m.
| • Location: Waters off Cedar Beach Town Park, Mount Sinai, NY in approximate position 40°57′59.58″ N, 073°01′57.87″ W (NAD 83).
7.15 Davis Park Fireworks | • Date: A single day event in July.
| • Time: 8:30 p.m. to 10:30 p.m.
| • Location: Waters of the Great South Bay, Davis Park, NY in approximate position, 40°41′17″ N, 073°00′20″ W (NAD 83).
7.16 Fairfield Aerial Fireworks | • Date: A single day event in July.
| • Time: 8:30 p.m. to 10:30 p.m.
| • Location: Waters of Jennings Beach, Fairfield, CT in approximate position 41°08′22″ N, 073°14′02″ W (NAD 83).
7.17 Fund in the Sun Fireworks | • Date: A single day event in July.
| • Time: 8:30 p.m. to 10:30 p.m.
| • Location: Waters of the Great South Bay off The Pines, East Fire Island, NY in approximate position 40°40′07.43″ N, 073°04′13.88″ W (NAD 83).
7.18 Independence Day Celebration Fireworks | • Date: A single day event in July.
| • Time: 8:30 p.m. to 10:30 p.m.
| • Location: Waters off Umbrella Beach, Montauk, NY in approximate position 41°01′44″ N, 071°57′13″ W (NAD 83).
7.19 Jones Beach State Park Fireworks | • Date: A single day event in July.
| • Time: 8:30 p.m. to 10:30 p.m.
| • Location: Waters off Jones Beach State Park, Wantagh, NY in approximate position 40°34′56.676″ N, 073°30′31.186″ W (NAD 83).
7.20 Madison Cultural Arts Fireworks | • Date: A single day event in July.
| • Time: 8:30 p.m. to 10:30 p.m.
| • Location: Waters of Long Island Sound off Madison, CT in approximate position 41°16′10″ N, 072°36′30″ W (NAD 83).
7.21 Mason's Island Yacht Club Fireworks | • Date: A single day event in July.
| • Time: 8:30 p.m. to 10:30 p.m.
| • Location: Waters of Fisher's Island Sound, Noank, CT in approximate position 41°19′30.61″ N, 071°57′48.22″ W (NAD 83).
7.22 Patchogue Chamber of Commerce Fireworks | • Date: A single day event in July.
| • Time: 8:30 p.m. to 10:30 p.m.
| • Location: Waters of the Great South Bay, Patchogue, NY in approximate position, 40°44′38″ N, 073°00′33″ W (NAD 83).
7.23 Riverfest Fireworks | • Date: A single day event in July.
| • Time: 8:30 p.m. to 10:30 p.m.
| • Location: Waters of the Connecticut River, Hartford, CT in approximate positions, 41°45′39.93″ N, 072°39′49.14″ W (NAD 83).
7.24 Village of Asharoken Fireworks | • Date: A single day event in July.
| • Time: 8:30 p.m. to 10:30 p.m.
| • Location: Waters of Northport Bay, Asharoken, NY in approximate position, 41°55′54.04″ N, 073°21′27.97″ W (NAD 83).
7.25 Village of Port Jefferson Fourth of July Celebration Fireworks | • Date: A single day event in July.
| • Time: 8:30 p.m. to 10:30 p.m.
| • Location: Waters of Port Jefferson Harbor, Port Jefferson, NY in approximate position 40°57′10.11″ N, 073°04′28.01″ W (NAD 83).
7.26 Village of Quoque Foundering Anniversary Fireworks | • Date: A single day event in July.
| • Time: 8:30 p.m. to 10:30 p.m.
| • Location: Waters of Quantuck Bay, Quoque, NY in approximate position 40°48′42.99″ N, 072°37′20.20″ W (NAD 83).
7.27 City of Long Beach Fireworks | • Location: Waters off Riverside Blvd., City of Long Beach, NY in approximate position 40°34′38.77″ N, 073°39′41.32″ W (NAD 83).
7.28 Great South Bay Music Festival Fireworks | • Location: Waters of Great South Bay, off Bay Avenue, Patchogue, NY in approximate position 40°44′45″ N, 073°00′25″ W (NAD 83).
7.29 Mashantucket Pequot Fireworks | • Location: Waters of the Thames River, New London, CT in approximate positions Barge 1, 41°21′03.03″ N, 072°5′24.5″ W Barge 2, 41°20′51.75″ N, 072°5′18.90″ W (NAD 83).
7.30 Shelter Island Fireworks | • Location: Waters of Gardiner Bay, Shelter Island, NY in approximate position 41°04′39.11″ N, 072°22′01.07″ W (NAD 83).
7.31 Clam Shell Foundation Fireworks | • Location: Waters of Three Mile Harbor, East Hampton, NY in approximate position 41°1′15.49″ N, 072°11′27.50″ W (NAD 83).
7.32 Town of North Hempstead Bar Beach Fireworks | • Location: Waters of Hempstead Harbor, North Hempstead, NY in approximate position 40°49′54″ N, 073°39′14″ W (NAD 83).
7.33 Groton Long Point Yacht Club Fireworks | • Location: Waters of Long Island Sound, Groton, CT in approximate position 41°18′05″ N, 072°02′08″ W (NAD 83).
7.34 Devon Yacht Club Fireworks | • Date: A single day event in July.
| • Location: Waters of Napeague Bay, in Block Island Sound off Amagansett, NY in approximate position 40°59′41.40″ N, 072°06′08.70″ W (NAD 83).
7.35 Dolan Family Fourth Fireworks | • Date: A single day event in July.
| • Location: Waters of Oyster Bay Harbor in Long Island Sound off Oyster Bay, NY in approximate position 40°53′42.50″ N, 073°30′04.30″ W (NAD 83).
7.36 Friar's Head Golf Club Fireworks | • Date: A day during the first two weeks of July.
| • Location: Waters of Long Island Sound off Baiting Hollow, NY in approximate position, 40°58′19.53″ N, 072°43′45.65″ W (NAD 83).
7.37 Islip Fireworks | • Date: July 4.
| • Rain date: July 5.
| • Location: Waters of the Great South Bay off Bay Shore Manor Park, Islip, NY in approximate position 40°42′24″ N, 073°14′24″ W (NAD 83).
7.38 Madison Fireworks | • Date: A single day event in July.
| • Location: Waters of Long Island Sound off Madison Beach, Madison, CT in approximate position 41°16′03.93″ N, 072°36′15.97″ W (NAD 83).
7.39 Stratford Fireworks | • Date: A single day event in June or July.
| • Location: Waters of Long Island Sound surrounding Short Beach Park, Stratford, CT in approximate position 41°09′50.82″ N, 073°06′47.13″ W (NAD 83).
7.40 Rowayton Fireworks | • Date: A single day event in July.
| • Location: Waters of Long Island Sound south of Bayley Beach Park, Rowayton, CT in approximate position 41°03′11″ N, 073°26′41″ W (NAD 83).
7.41 Niantic Bay Fireworks | • Date: A day during the first three weeks of July.
| • Location: Waters of Niantic Bay 1,500 feet west of the Niantic River Railroad Bridge, Niantic, CT in approximate position 41°19′22.59″ N, 072°11′03.47″ W (NAD 83).
7.42 Connetquot River Summer Fireworks | • Date: A single day event in July.
| • Location: Waters of the Connetquot River off Snapper Inn Restaurant, Oakdale, NY in approximate position 40°43′32.38″ N, 073°9′02.64″ W (NAD 83).
7.43 North Bay Fourth of July Fireworks | • Date: A single day event in July.
| • Location: Waters of the Great South Bay in Patchogue Bay 4,000 feet southeast of Blue Point, NY in approximate position 40°44′6.28″ N, 073°01′02.50″ W (NAD 83).
7.44 Sebonak Golf Club Fireworks | • Date: A single day event in July or August.
| • Location: Waters of the Great Peconic Bay 3 4 of a mile northwest of Bullhead Bay, Shinnecock, NY in approximate position 40°55′11.79″ N, 072°28′04.34″ W (NAD 83).
7.45 Xirinachs Family Foundation Fireworks | • Date: A single day event in July.
| • Location: Waters of Hunting Bay off Beach Avenue, Huntington Bay, NY in approximate position 40°54′23.27″ N, 73°25′08.04″ W (NAD 83).
7.46 Irwin Family 4th of July | • Date: A single day event in June or July.
| • Location: Waters of the Great South Bay off The Helm Road, East Islip, NY in approximate position 40°42′12.28″ N, 73°12′00.08″ W (NAD 83).
7.47 Westbrook July Celebration | • Date: A single day event in July.
| • Location: Waters of Long Island Sound Westbrook Harbor, West Brook, CT in approximate position 41°16′10″ N, 72°26′14″ W (NAD 83).
8 | August
8.1 Village of Bellport Fireworks | • Location: Waters of Bellport Bay, off Bellport Dock, Bellport, NY in approximate position 40°45′01.83″ N, 072°55′50.43″ W (NAD 83).
8.2 Taste of Italy Fireworks | • Location: Waters of Norwich Harbor, off Norwich Marina, Norwich, CT in approximate position 41°31′17.72″ N, 072°04′43.41″ W (NAD 83).
8.3 Old Black Point Beach Association Fireworks | • Location: Waters off Old Black Point Beach, East Lyme, CT in approximate position, 41°17′34.9″ N, 072°12′55″ W (NAD 83).
8.4 Town of Babylon Fireworks | • Location: Waters off of Cedar Beach Town Park, Babylon, NY in approximate position 40°37′53″ N, 073°20′12″ W (NAD 83).
8.5 Shelter Island Yacht Club Fireworks | • Date: A single day event in August.
| • Location: Waters of Dering Harbor north of Shelter Island Yacht Club, Shelter Island, NY in approximate position 41°05′23.47″ N, 072°21′11.18″ W (NAD 83).
8.6 Stamford Fireworks | • Date: A single day event in August.
| • Location: Waters of Stamford Harbor, off Kosciuszco Park, Stamford, CT in approximate position 41°01′48.46″ N, 073°32′15.32″ W (NAD 83).
8.7 Nikon Theater at Jones Beach Fireworks | • Date: A single day event in August.
| • Location: Waters of Zacks Bay off the Nikon Theater, Jones Beach, NY in approximate position 40°36′02.12″ N, 073°30′05.65″ W (NAD 83).
8.8 Ascension Fireworks | • Date: A single day event in August.
| • Location: Waters of the Great South Bay off The Pines, East Fire Island, NY in approximate position 40°40′07.43″ N, 073°04′13.88″ W (NAD 83).
9 | September
9.1 East Hampton Fire Department Fireworks | • Location: Waters off Main Beach, East Hampton, NY in approximate position 40°56′40.28″ N, 072°11′21.26″ W (NAD 83).
9.2 Town of Islip Labor Day Fireworks | • Location: Waters of Great South Bay off Bay Shore Marina, Islip, NY in approximate position 40°42′24″ N, 073°14′24″ W (NAD 83).
9.3 Village of Island Park Labor Day Celebration Fireworks | • Location: Waters off Village of Island Park Fishing Pier, Village Beach, NY in approximate position 40°36′30.95″ N, 073°39′22.23″ W (NAD 83).
9.4 The Creek Fireworks | • Date: A single day event in September.
| • Location: Waters of Long Island Sound off the Creek Golf Course, Lattingtown, NY in approximate position 40°54′13″ N, 073°35′58″ W (NAD 83).
9.5 Archangel Michael Greek Orthodox Church Fireworks | • Date: A single day event in September or October.
| • Location: Waters of Hempstead Harbor off Bar Beach Town Park, Port Washington, NY in approximate position 40°49′42″ N, 073°39′07″ W (NAD 83).
9.6 Port Washington Sons of Italy Fireworks | • Location: Waters of Hempstead Harbor off Bar Beach, North Hempstead, NY in approximate position 40°49′48.04″ N, 073°39′24.32″ W (NAD 83).
11 | November
11.1 Charles W Morgan Anniversary Fireworks | • Date: A day during the first or second weekend of November.
| • Location: Waters of the Mystic River, north of the Mystic Seaport Light, Mystic, CT in approximate position 41°21′56.455″ N, 071°57′58.32″ W (NAD 83).
11.2 Christmas Boat Parade Fireworks | • Location: Waters of Patchogue Bay off Lombardi's on the Bay Restaurant, Patchogue, NY in approximate position 40°44′39.18″ N, 073°00′37.80″ W (NAD 83).
11.3 Connetquot River Fall Fireworks | • Location: Waters of the Connetquot River off Snapper Inn Restaurant, Oakdale, NY in approximate position 40°43′32.38″ N, 073°09′02.64″ W (NAD 83).
12 | December
12.1 Greenport Winter Fireworks | • Date: From 11:45 p.m. December 31 until 12:30 a.m. January 1.
| • Location: Waters of Greenport Harbor off Mitchell Park and Marina, Greenport, NY, in approximate position 41°05′59.09″ N, 072°21′31.44″ W (NAD 83).

* * * * *

Dated: April 10, 2020.
K.B. Reed,
Captain, U.S. Coast Guard, Captain of the Port Sector Long Island Sound.

[FR Doc. 2020-08107 Filed 4-20-20; 8:45 am]

BILLING CODE 9110-04-P